ENVIRONMENTAL PROTECTION AGENCY

[ER-FRL-6662-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 1, 2005 (70 FR 16815).

Draft EISs

EIS No. 20040583, ERP No. D-BLM-J65433-WY, Rawlins Field Office Planning Area Resource Management Plan, Addresses the Comprehensive Analysis of Alternatives for the Planning and Management of Public Land and Resource Administered by (BLM), Albany, Carbon, Laramie, and Sweetwater Counties, WY.

Summary: EPA expressed environmental concerns regarding potential impacts to ecosystem processes, air quality, water quality, and wildlife habitat. EPA requests that the Final EIS disclose water quality impacts to aquatic resources more clearly and quantitatively, specifically in grazing allotments needing preservation of riparian habitat and water quality. Rating EC2.

EIS No. 20050026, ERP No. D-BIA-F60007-WI, Beloit Casino Project, To Expand the Tribal Governmental Revenue Base, St. Croix Chippewa Indians of Wisconsin and Bad River Band of the Lake Superior Tribe of Chippewa Indians, Rock County, WI.

Summary: EPA expressed concerns regarding the construction and operation of the proposed casino project and cumulative noise and air impacts from the proposed I-90 highway reconfiguration. EPA requested that these issues be evaluated in the Final EIS along with mitigation for noise and light pollution from increased night time traffic, and evaluation of the use of native vegetation in landscaping for energy and water conservation. Rating EC2.

EIS No. 20050032, ERP No. D-AFS-D65049-WV, Fernow Experimental Forest, To Continue Long-Term Research and Initiate New Research, Involving Removal of Trees, Prescribed Burning, Stem Injection of Selected Trees, Control Invasive Plant Species, Northeastern Research Station, Parson, Tucker County, WV.

Summary: EPA expressed environmental concerns regarding impacts to water quality and riparian resources and requested more specific information on herbicide treatments, especially related to overstory trees to control invasive plants. The Final EIS should address stream monitoring to assess potential impacts that may result from the proposed actions as well as how the public and wildlife will be protected from prescribed fire treatments. Rating EC2.

EIS No. 20050047, ERP No. D-BIA-C60005-NY, Stockbridge-Munsee Casino Project, Proposes To Address the Tribe's Economic Development, Bands of Mohican Indians of Wisconsin (the Tribe), NPDES Permit and U.S. Army COE Section 404 Permit, Town of Thompson, Sullivan County, NY.

Summary: EPA expressed concerns regarding indirect and cumulative impacts on new water and sewer lines, traffic and air quality of the five casinos expected to be built in Sullivan County and the casino's solid waste disposal. EPA requested that these issues be evaluated in the Final EIS along with a detailed wetlands mitigation and monitoring plan. Rating EC2.

EIS No. 20050074, ERP No. D-NAS-E12007-FL, New Horizons Mission to Pluto, Continued Preparations and Implementation to Explore Pluto and Potentially the Recently Discovered Kuiper Belt, Cape Canaveral Air Force Station, FL.

Summary: EPA has no objections regarding this launch. Rating LO.

EIS No. 20050043, ERP No. DS-FHW-J40166-UT, US 6 Highway Project, Improvements from Interstate 15 (I-15) in Spanish Fork to Interstate (I-70) near Green River, New Information, Funding, Right-of-Way Permit and US Army COE Section 404 Permit, Utah, Wasatch, Carbon, and Emery Counties, UT.

Summary: EPA expressed concerns due to impaired waters in the project area. Rating EC1.

EIS No. 20050002, ERP No. DS-NPS-L65264-WA, Elwha River Ecosystem Restoration Implementation Project, Update Information, Olympic Peninsula, Challam County, WA.

Summary: EPA has no objections to the proposed action. Rating LO.

EIS No. 20050007, ERP No. D2-FHW-H40397-MO, Interstate 70 Corridor Improvements, Section of Independent Utility #7 , a 40-Mile Portion of the I-70 Corridor from just West of Route 19 (milepost 174) to Lake St. Louis Boulevard (milepost 214) Montgomery, Warren, St. Charles Counties, MO.

Summary: While EPA has no objection to the proposed action, it did request clarification on wetlands issues. Rating LO.

Final EISs

EIS No. 20050017, ERP No. F-NOA-A91070-00, Atlantic Herring Fishery Management Plan, Minimizing Impacts on Essential Fish Habitat of Any Species, Gulf of Maine—Georges Bank, ME, NH, MA, CT and RI.

Summary: EPA expressed a lack of objections to the DEIS due to the overall benefits of the proposed action. Based on our review of the FEIS, we found that our issues were addressed.

EIS No. 20050027, ERP No. F-BLM-L65462-AK, Northeast National Petroleum Reserve Alaska Amended Integrated Activity Plan, To Amend 1998 Northeast Petroleum Reserve, To Consider Opening Portions of the BLM-Administrated Lands, North Slope Borough, AK.

Summary: EPA expressed environmental objections given that the selected alternative is likely to have more adverse impacts to surface resources and subsistence communities. EPA recommends that BLM phase in leases in new, environmentally sensitive areas only after experimental mitigation measures are proven effective for areas currently available for leasing.

EIS No. 20050045, ERP No. F-AFS-K65307-AZ, Coconino, Kaibab, and Prescott National Forest, Integrated Treatment of Noxious and Invasive Weeds, Implementation, Coconino, Mojave, and Yavapai Counties, AZ.

Summary: The Final EIS addressed EPA's concerns about impacts to drinking water from herbicide applications with the addition of mitigation measures.

EIS No. 20050057, ERP No. F-AFS-J65303-MT, Bridger Bowl Ski Area, Permit Renewal and Master Development Plan Update, Implementation, Special Use Permit and COE Section 404 Permit, Gallatin National Forest, in the City of Bozeman, MT.

Summary: EPA continues to express environmental concerns regarding impacts to wildlife habitat.

EIS No. 20050065, ERP No. F-AFS-J65389-MT, North Belts Travel Plan and the Dry Range Project, Provision of Motorized and Non-motorized Recreation, Helena National Forest, Broadwater, Lewis and Clark, and Meagher Counties, MT.

Summary: EPA continues to have environmental concerns regarding erosion, habitat damage and adverse impacts to wildlife security from motorized uses as well as the need for an effective monitoring and adaptive management program for travel management.

EIS No. 20050070, ERP No. F-FHW-G40177-LA, Kansas Lane Connector Project, Construction between U.S. 90 (Desiard Street) and U.S. 165 and the Forsythe Avenue Extension, US Army COE Section 10 and 404 Permits Issuance, City of Monroe, Quachita Parish, LA.

Summary: EPA has no objections to the proposed project.

EIS No. 20050009, ERP No. FS-NOA-A91063-00, Monkfish Fishery Management Plan (FMP) Amendment 2, Implementation, Proposes Measures to Address a Wide Range of Management Issues, New England and Mid-Atlantic.

Summary: EPA has no objection to the proposed action.

EIS No. 20050040, ERP No. FS-AFS-J02027-UT, Table Top Exploraory Oil and Gas Wells, New Information from the Approval 1994 Final EIS, Wasatch-Cache National Forest, Evanston Ranger District, Summit County, UT.

Summary: No formal comment letter was sent to the preparing agency.

Dated: April 5, 2005.
Ken Mittelholtz,
Environmental Protection Specialist, Office of Federal Activities.

[FR Doc. 05-7040 Filed 4-7-05; 8:45 am]

BILLING CODE 6560-50-P